DEPARTMENT OF COMMERCE

International Trade Administration

[A-570-945]

Prestressed Concrete Steel Wire Strand From the People's Republic of China: Final Results of the Expedited Second Sunset Review of the Antidumping Duty Order

AGENCY: Enforcement and Compliance, International Trade Administration, Department of Commerce.

SUMMARY: The Department of Commerce (Commerce) finds that revocation of the antidumping duty order on prestressed concrete steel wire strand (PC strand) from the People's Republic of China (China) would be likely to lead to continuation or recurrence of dumping at the levels indicated in the “Final Results of Sunset Review” section of this notice.

DATES: Applicable December 31, 2020.

FOR FURTHER INFORMATION CONTACT: Emily Halle, AD/CVD Operations, Office V, Enforcement and Compliance, International Trade Administration, U.S. Department of Commerce, 14th Street and Constitution Avenue NW, Washington, DC 20230; telephone: (202) 482-0176.

SUPPLEMENTARY INFORMATION:

Background

On June 29, 2010, the Department of Commerce (Commerce) published the antidumping duty order on PC strand from China.¹ On September 1, 2020, Commerce initiated the second sunset review of the Order pursuant to section 751(c) of the Tariff Act of 1930, as amended (the Act).² On September 14, 2020, Commerce received a notice of intent to participate in this sunset review from Insteel Wire Products Company, Sumiden Wire Products Corporation, and Wire Mesh Corporation (collectively, “Domestic Industry”), within the deadline specified in 19 CFR 351.218(d)(1)(i).³ The members of the Domestic Industry claimed interested party status under section 771(9)(C) of the Act as producers of the domestic like product in the United States. On September 30, 2020, Commerce received a substantive response from the Domestic Industry within the 30-day deadline specified in 19 CFR 351.218(d)(3)(i).⁴ Commerce received no substantive responses from respondent interested parties, nor was a hearing requested. On October 27, 2020, Commerce notified the U.S. International Trade Commission (ITC) that it did not receive an adequate substantive response from respondent interested parties.⁵ As a result, pursuant to section 751(c)(3)(B) of the Act and 19 CFR 351.218(e)(1)(ii)(C)(2), Commerce conducted an expedited (120-day) sunset review of the Order.

¹ See Notice of Antidumping Duty Order: Prestressed Concrete Steel Wire Strand from the People's Republic of China, 75 FR 37382 (June 29, 2010) (Order).

² See Initiation of Five-Year (Sunset) Reviews, 85 FR 54348 (September 1, 2020).

³ See Domestic Industry's Letter, “Prestressed Concrete Steel Wire Strand from the People's Republic of China—Domestic Industry's Notice of Intent to Participate,” dated September 14, 2020.

⁴ See Domestic Industry's Letter, “Prestressed Concrete Steel Wire Strand from the People's Republic of China—Domestic Industry's Substantive Response,” dated September 30, 2020.

⁵ See Commerce's Letter, “Sunset Reviews Initiated on September 1, 2020,” dated October 27, 2020.

Scope of the Order

The product covered by the Order is PC strand, produced from wire of non-stainless, non-galvanized steel, which is suitable for use in prestressed concrete (both pretensioned and post-tensioned) applications. The product definition encompasses covered and uncovered strand and all types, grades, and diameters of PC strand. PC strand is normally sold in the United States in sizes ranging from 0.25 inches to 0.70 inches in diameter. PC strand made from galvanized wire is only excluded from the scope if the zinc and/or zinc oxide coating meets or exceeds the 0.40 oz./ft² standard set forth in ASTM-A-475. Imports of the subject merchandise are currently classifiable under subheadings 7312.10.3010 and 7312.10.3012 of the Harmonized Tariff Schedule of the United States (HTSUS). Although the HTSUS subheadings are provided for convenience and customs purposes, the written description of the scope of this order is dispositive.

Analysis of Commerce Received

All issues raised in this review, including the likelihood of continuation or recurrence of dumping in the event of revocation and the magnitude of the margins likely to prevail if the order were revoked, are addressed in the accompanying Issues and Decision Memorandum. A list of topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/. The signed and the electronic version of the Issues and Decision Memorandum are identical in content.

Final Results of Sunset Review

Pursuant to sections 751(c)(1) and 752(c)(1) and (3) of the Act, Commerce determines that revocation of the antidumping duty order on PC strand from China would likely lead to continuation or recurrence of dumping at the following weighted-average margins and that the margins of dumping likely to prevail would be weighted-average margins of up to 193.55 percent.⁶

⁶ See Memorandum, “Issues and Decision Memorandum for the Final Results of the Expedited Second Sunset Review of the Antidumping Duty Order on Prestressed Concrete Steel Wire Strand from the People's Republic of China,” dated concurrently with this notice.

Administrative Protective Order (APO)

This notice serves as the only reminder to interested parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act and 19 CFR 351.218.

Dated: December 28, 2020.
Jeffrey I. Kessler,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins Likely to Prevail

VII. Final Results of Sunset Review

VIII. Recommendation

[FR Doc. 2020-28979 Filed 12-30-20; 8:45 am]

BILLING CODE 3510-DS-P